DEPARTMENT OF JUSTICE

[OMB Number 1121-0065]

Agency Information Collection Activities; Proposed eCollection eComments Requested; Extension of a Currently Approved Collection: National Corrections Reporting Program

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until September 3, 2024.

FOR FURTHER INFORMATION CONTACT: If you have additional comments especially on the estimated public burden or associated response time, suggestions, or need a copy of the proposed information collection instrument with instructions or additional information, please contact Derek Mueller, Ph.D., Statistician, Bureau of Justice Statistics, 810 Seventh Street NW, Washington, DC 20531 (email: Derek.Mueller@usdoj.gov; telephone: 202-353-5216).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The National Corrections Reporting Program (NCRP, OMB Number 1121-0065) is the only national data collection furnishing annual individual-level information for state prisoners at five points in the incarceration process: prison admission, prison release, annual year-end prison custody census, entry to post-custody community corrections supervision, and exits from post-custody community corrections supervision. BJS, the U.S. Congress, researchers, and criminal justice practitioners use these data to describe annual movements of adult persons through state correctional systems, as well as to examine long-term trends in time served in prison, demographic and offense characteristics of persons in prison, sentencing practices in the states that submit data, transitions between incarceration and community corrections, and recidivism. Providers of the data are personnel in the states' Departments of Corrections and Parole, and all data are submitted on a voluntary basis. The NCRP collects the following administrative data on each person in participating states' custody:

• County of sentencing

• State and federal inmate identification numbers

• Dates of: birth, prison admission, prison release, projected prison release, mandatory prison release, eligibility hearing for post-custody community corrections supervision, post-custody community corrections supervision entry, post-custody community corrections supervision exit

• First, middle, and last names

• Demographic information: sex, race, Hispanic origin, education level, prior military service, date and type of last discharge from military

• Offense type and number of counts per inmate for a maximum of three convicted offenses per person

• Total sentence length imposed

• Type of facility where person is serving sentence (for year-end custody census records only, the name of the facility is also requested)

• Country of current citizenship, country of birth, and status of current U.S. citizenship

• Type of prison admission

• Type of prison release

• Location of post-custody community supervision exit or post-custody community supervision office (post-custody community supervision records only)

• Social security number

• Address of last residence prior to incarceration

• Prison security level at which the inmate is held

BJS is not proposing making additions or deletions from the previously approved collection. BJS uses the information gathered in NCRP in published reports and statistics. The reports will be made available to the U.S. Congress, Executive Office of the President, practitioners, researchers, students, the media, others interested in criminal justice statistics, and the general public via the BJS website.

Overview of This Information Collection

1. Type of Information Collection: Extension of a Currently Approved Collection.

2. The Title of the Form/Collection: National Corrections Reporting Program. The collection includes the following parts: Prisoner Admission Report, Prisoner Release Report, Prisoners in Custody at Year-end Report, Post-Custody Community Supervision Entry Report, Post-Custody Community Supervision Exit Report.

3. The agency form number, if any, and the applicable component of the Department sponsoring the collection: Form number(s): NCRP-1A, NCRP-1B, NCRP-1D, NCRP-1E, NCRP-1F. The applicable component within the Department of Justice is the Bureau of Justice Statistics (Prisons Statistics Unit), in the Office of Justice Programs.

4. Affected public who will be asked or required to respond, as well as a brief abstract: Primary: 50 state departments of corrections (DOCs) and 7 parole boards (in six states and the District of Columbia). The obligation to respond is voluntary.

5. An estimate of the total number of respondents and the amount of time estimated for an average respondent to respond: BJS anticipates 57 respondents to NCRP by 2027: 50 state DOC respondents and seven separate parole boards (in six states and the District of Columbia). Burden hours for the three collection years (2025-2027) differ based on whether a state has previously submitted NCRP prison and PCCS data in recent years. In the last four years, 47 DOCs have submitted NCRP prison data, but currently, only 35 respondents have submitted PCCS data.

Burden Hours for Prison Records (NCRP-1A, NCRP-1B, NCRP-1D)

All 50 DOCs have submitted NCRP prison data in the past, so the average time needed to continue providing prison data is expected to be 7 hours per respondent for both prisoner admissions and releases (NCRP-1A and NCRP-1B) and 7 hours for data on persons in prison at year-end (NCRP-1D). For 2025-2027, the total burden estimate is 14 hours per DOC for a total of 700 hours annually for the 50 DOCs (14 hours*50 = 700 hours). This is the same estimate as given for the 2024 collection since BJS is not requesting changes to the collection.

Burden Hours for PCCS Records (NCRP-1E, NCRP-1F)

In 2023, there were 35 jurisdictions submitting 2022 PCCS data (31 DOCs and 4 parole supervising agencies), and BJS estimates that extraction and submission of both the PCCS entries and exits takes an average of 8 hours per jurisdiction. For 2025-2027, BJS hopes to recruit an additional five jurisdictions to submit NCRP PCCS data. For those 35 supervising agencies currently responding, provision of the PCCS data in 2022-2024 will total 280 hours (8 hours*35 = 280 hours) annually. The total estimate for submission of PCCS for new jurisdictions in 2022-2024 is 120 hours (24 hours*5 = 120 hours). For new agencies, BJS assumes the initial submission will take about three times longer than established reporters to account for programming, questions, and submission. The total amount of time for all PCCS submissions annually is 400 hours.

Burden Hours for Data Review/Follow-Up Consultations

Follow-up consultations with respondents are usually necessary while processing the data to obtain further information regarding the definition, completeness and accuracy of their report. The duration of these follow-up consultations will vary based on the number of record types submitted, so BJS has estimated an average of 3 hours per jurisdiction to cover all of the records (prison and/or PCCS) submitted. In 2025, BJS anticipates that one of the two parole boards not currently submitting PCCS data will begin to submit, so the number of jurisdictions requiring follow-up consultations is 51 (50 DOCs submitting at least the prison data, and one parole board submitting only PCCS data). This yields a total of 153 hours of follow-up consultation after submission (3 hours*51 = 153 hours). This total estimate of 153 hours for data review/follow-up consultations remains the same for 2026 and 2027.

Total Burden Hours for Submitting NCRP Data

BJS anticipates that the total burden for provision and data follow-up of all NCRP data across the participating jurisdictions in 2025-2027 to be 1,235 hours (700 hours for prison records, 400 hours for PCCS records, and 153 hours for follow-up consultation).

6. An estimate of the total public burden (in hours) associated with the collection: There are an estimated 1,235 total burden hours associated with this collection in 2025-2027.

7. An estimated of the total annual cost burden associated with the collection, if applicable: $48,696.

Total Burden Hours
Activity | Number of respondents | Frequency | Total annual responses | Time per survey (hours) | Time for follow-up (hours) | Total annual burden (hours)
NCRP Prison (NCRP-1A, 1B, 1D) | 50 | 1 | 50 | 14 | 1.5 | 15.5
NCRP PCCS (NCRP 1E, 1F) | 35 | 1 | 35 | 8 | 1.5 | 9.5
NCRP PCCS New | 5 | 1 | 5 | 24 | 1.5 | 25.5
Unduplicated Totals |  |  |  |  |  | 1,235

If additional information is required, contact: Darwin Arceo, Department Clearance Officer, Policy and Planning Staff, Justice Management Division, United States Department of Justice, Two Constitution Square, 145 N Street NE, 3E.206, Washington, DC 20530.

Dated: June 28, 2024.
Darwin Arceo,
Department Clearance Officer for PRA, Policy and Planning Staff, Office of the Chief Information Officer, U.S. Department of Justice.

[FR Doc. 2024-14629 Filed 7-2-24; 8:45 am]

BILLING CODE 4410-18-P